DEPARTMENT OF JUSTICE

Antitrust Division

Notice Pursuant to the National Cooperative Research and Production Act of 1993—IMS Global Learning Consortium, Inc.

Notice is hereby given that, on January 12, 2018, pursuant to Section 6(a) of the National Cooperative Research and Production Act of 1993, 15 U.S.C. 4301 et seq. (“the Act”), IMS Global Learning Consortium, Inc. (“IMS Global”) has filed written notifications simultaneously with the Attorney General and the Federal Trade Commission disclosing changes in its membership. The notifications were filed for the purpose of extending the Act's provisions limiting the recovery of antitrust plaintiffs to actual damages under specified circumstances. Specifically, Academic Center for Computing and Media Studies, Kyoto University, Kyoto, JAPAN; Chicago Public Schools, Tinley Park, IL; Colorado State University Online, Fort Collins, CO; Credly, New York, NY; Cyber University, Tokyo, JAPAN; Edmentum, Bloomington, MN; Fayette County Public Schools, Fayetteville, GA; Google, Mountain View, CA; Grapevine Colleyville ISD, Grapevine, TX; i-Scream Edu, Seoul, REPUBLIC OF KOREA; and Placid Consulting, Cedar Park, TX, have been added as parties to this venture.

Also, Duncanville ISD, Duncanville, TX; TOOLS4EVER, Bonney Lake, WA; OpenEd, San Jose, CA; and Echo360, Reston, VA, have withdrawn as parties to this venture.

No other changes have been made in either the membership or planned activity of the group research project. Membership in this group research project remains open, and IMS Global intends to file additional written notifications disclosing all changes in membership.

On April 7, 2000, IMS Global filed its original notification pursuant to Section 6(a) of the Act. The Department of Justice published a notice in the Federal Register pursuant to Section 6(b) of the Act on September 13, 2000 (65 FR 55283).

The last notification was filed with the Department on October 6, 2017. A notice was published in the Federal Register pursuant to Section 6(b) of the Act on October 31, 2017 (82 FR 50443).

Patricia A. Brink,
Director of Civil Enforcement, Antitrust Division.

[FR Doc. 2018-02806 Filed 2-9-18; 8:45 am]

BILLING CODE 4410-11-P